DEPARTMENT OF JUSTICE

[OMB Number 1124-0001]

Agency Information Collection Activities; Proposed eCollection eComments Requested; Registration Statement of Foreign Agents (NSD-1)

AGENCY: National Security Division, Department of Justice.

ACTION: 30-Day notice.

SUMMARY: The National Security Division (NSD), Department of Justice (DOJ), will be submitting the following information collection request to the Office of Management and Budget (OMB) for review and approval in accordance with the Paperwork Reduction Act of 1995. The proposed information collection was previously published in the Federal Register on April 20, 2023, allowing a 60-day comment period.

DATES: Comments are encouraged and will be accepted for 30 days until August 24, 2023.

FOR FURTHER INFORMATION CONTACT: If you have comments especially on the estimated public burden or associated response time, suggestions, or need a copy of the proposed information collection instrument with instructions or additional information, please contact CES Acting Section Chief Jennifer K. Gellie, at 202-233-0776, and fara.public@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1124-0001. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Registration Statement of Foreign Agents.

3. Agency form number, if any, and the applicable component of the Department of Justice sponsoring the collection: The form number is NSD-1. The applicable component within the Department of Justice is the Foreign Agents Registration Act (FARA) Unit, Counterintelligence and Export Control Section, in the National Security Division.

4. Affected public who will be asked or required to respond, as well as a brief abstract: Affected Public: Primary: Private Sector—business or other for-profit, not-for-profit institutions, and individuals/households.

Abstract: The information collection request contains revised Registration Statement of Foreign Agents information used for registering foreign agents under the Foreign Agents Registration Act of 1938, as amended, 22 U.S.C. 611, (FARA).

5. Obligation to Respond: The filing of this document is required for the Foreign Agents Registration Act of 1938, as amended, 22 U.S.C. 611, for the purposes of registration under the Act and public disclosure. Provision of the information requested is mandatory, and failure to provide the information is subject to the penalty and enforcement provisions established in Section 8 of the Act. See 22 U.S.C. 618 and 28 CFR 5.

6. Total Estimated Number of Respondents: 119 respondents once annually.

7. Estimated Time per Respondent: .75 hours or 45 minutes.

8. Frequency: Once/annually.

9. Total Estimated Annual Time Burden: 89 annual burden hours (119 × .75 = 89).

10. Total Estimated Annual Other Costs Burden related to this Information Collection Request form NSD-1:

a. Respondent-Registrant: Filing Fees = $0 (No Mandatory Fee).

b. Federal Government Agency (NSD)/Note: This category covers all six (6) FARA registration forms OMB Control Nos. 1124-0001 through 1124-0006.

i. Contractor staff (non-IT) = $120,066.80/3 years = $40,022.27 annually.

ii. Postage Grand Total = $3,839.00/3 years = $1,279.67 annually.

1. US Mail = $2,880.00/3 years = $960.00 annually.

2. Commercial courier: $959.00/3 years = $319.67 annually.

iii. FARA.gov website maintenance, hosting, network support access and utilities (DOJ-JMD) @ https://www.justice.gov/nsd-fara: = $1,433,876.92/3 years = $477,958.96 annually.

If additional information is required, contact: Darwin Arceo, Department Clearance Officer, Policy and Planning Staff, Justice Management Division, United States Department of Justice, Two Constitution Square, 145 N Street NE, 4W-218, Washington, DC 20530.

Dated: July 18, 2023.
Darwin Arceo,
Department Clearance Officer for PRA, U.S. Department of Justice.

[FR Doc. 2023-15728 Filed 7-24-23; 8:45 am]

BILLING CODE 4410-PF-P